DEPARTMENT OF HEALTH AND HUMAN SERVICES

National Institutes of Health

National Institute of Neurological Disorders and Stroke; Notice of Closed Meetings

Pursuant to section 10(d) of the Federal Advisory Committee Act, as amended, notice is hereby given of meetings of the Board of Scientific Counselors, National Institute of Neurological Disorders and Stroke.

The meetings will be closed to the public as indicated below in accordance with the provisions set forth in section 552b(c)(6), Title 5 U.S.C., as amended for the review, discussion, and evaluation of individual intramural programs and projects conducted by the NATIONAL INSTITUTE OF NEUROLOGICAL DISORDERS AND STROKE, including consideration of personnel qualifications and performance, and the competence of individual investigators, the disclosure of which would constitute a clearly unwarranted invasion of personal privacy.

Name of Committee: Board of Scientific Counselors, National Institute of Neurological Disorders and Stroke.

Date: January 12-14, 2020.

Time: 6:00 p.m. to 12:00 p.m.

Agenda: To review and evaluate personnel qualifications and performance, and competence of individual investigators.

Place: Residence Inn Bethesda, 7335 Wisconsin Avenue, Bethesda, MD 20814.

Contact Person: Lorna W. Role, Ph.D., Scientific Director, Division of Intramural Research, National Institute of Neurological Disorders and Stroke, 35A Convent Drive, MSC 3716, Bethesda, MD 20892, lorna.role@nih.gov.

Name of Committee: Board of Scientific Counselors, National Institute of Neurological Disorders and Stroke.

Date: March 22-24, 2020.

Time: 6:00 p.m. to 12:00 p.m.

Agenda: To review and evaluate personnel qualifications and performance, and competence of individual investigators.

Place: Residence Inn Bethesda, 7335 Wisconsin Avenue, Bethesda, MD 20814.

Contact Person: Lorna W. Role, Ph.D., Scientific Director, Division of Intramural Research, National Institute of Neurological Disorders and Stroke, 35A Convent Drive, MSC 3716, Bethesda, MD 20892, lorna.role@nih.gov.

Name of Committee: Board of Scientific Counselors, National Institute of Neurological Disorders and Stroke.

Date: June 21-23, 2020.

Time: 6:00 p.m. to 12:00 p.m.

Agenda: To review and evaluate personnel qualifications and performance, and competence of individual investigators.

Place: Residence Inn Bethesda, 7335 Wisconsin Avenue, Bethesda, MD 20814.

Contact Person: Lorna W. Role, Ph.D., Scientific Director, Division of Intramural Research, National Institute of Neurological Disorders and Stroke, 35A Convent Drive, MSC 3716, Bethesda, MD 20892, lorna.role@nih.gov.

Name of Committee: Board of Scientific Counselors, National Institute of Neurological Disorders and Stroke.

Date: October 4-6, 2020.

Time: 6:00 p.m. to 12:00 p.m.

Agenda: To review and evaluate personnel qualifications and performance, and competence of individual investigators.

Place: Residence Inn Bethesda, 7335 Wisconsin Avenue, Bethesda, MD 20814.

Contact Person: Lorna W. Role, Ph.D., Scientific Director, Division of Intramural Research, National Institute of Neurological Disorders and Stroke, 35A Convent Drive, MSC 3716, Bethesda, MD 20892, lorna.role@nih.gov.

(Catalogue of Federal Domestic Assistance Program Nos. 93.853, Clinical Research Related to Neurological Disorders; 93.854, Biological Basis Research in the Neurosciences, National Institutes of Health, HHS)

Dated: November 7, 2019.
Sylvia L. Neal,
Program Analyst, Office of Federal Advisory Committee Policy.

[FR Doc. 2019-24775 Filed 11-14-19; 8:45 am]

BILLING CODE 4140-01-P